DEPARTMENT OF TRANSPORTATION

Federal Motor Carrier Safety Administration

[Docket No. FMCSA-15025]

Notice of Request for Clearance of a New Information Collection: Truck Driver Fatigue Management Survey

AGENCY: Federal Motor Carrier Safety Administration (FMCSA), DOT.

ACTION: Notice.

SUMMARY: The FMCSA announces that the Information Collection Request (ICR) described in this notice is being sent to the Office of Management and Budget (OMB) for review and approval pursuant to the Paperwork Reduction Act of 1995. On May 30, 2003, the FMCSA published a “Notice of Request for Clearance of a New Information Collection: Truck Driver Fatigue Management Survey” in the Federal Register. Comments on the proposed information collection burden were solicited. No comments regarding the ICR were received.

DATES: Comments must be submitted on or before October 31, 2003.

ADDRESSES: Send comments to the Office of Information and Regulatory Affairs, Office of Management and Budget, 725 Seventeenth Street, NW., Washington, DC 20503, Attention: DOT Desk Officer. We particularly request your comments on whether the collection of information is necessary for the FMCSA to meet its goals of reducing truck crashes, including whether the information is useful to this goal; the accuracy of the estimate of the burden of the information collection; ways to enhance the quality, utility and clarity of the information collected; and ways to minimize the burden of the collection of information on respondents, including the use of automated collection techniques or other forms on information technology.

FOR FURTHER INFORMATION CONTACT: Mr. Robert Carroll, Transportation Specialist, (202) 385-2388, Research Division, Office of Research and Technology, Federal Motor Carrier Safety Administration, 600 Virginia Avenue, SW., Suite 600, Washington, DC 20024. Office hours are from 7:30 a.m. to 5 p.m., e.t., Monday through Friday, except Federal holidays.

SUPPLEMENTARY INFORMATION: Title: Truck Driver Fatigue Management Survey.

Background: The Conference Report on the Department of Transportation (DOT) and Related Agencies Appropriations Act, 2002 (Pub. L. 107-87, 115 Stat. 833, December 18, 2001) noted that the conferees included $400,000 to study fatigue management techniques, as outlined in the Senate report (H.R. Rep. No. 107-308, at 94 (2001)). The Senate Report on the FY 2002 DOT Appropriations Act directed FMCSA to perform a “study to determine the fatigue management techniques used by truck drivers during overnight operations with an organization representing unionized motor carriers in cooperation with their labor organization” (S. Rep. 107-38, at 83-84 (2001)).

The Federal Highway Administration (FHWA), on FMCSA's behalf, published a Pre-solicitation Notice on July 1, 2002, on the Department of Transportation's (DOT) Federal Business Opportunities Web site, describing the anticipated sole-source award to the Motor Freight Carriers Association (MFCA), and on September 30, 2002, FMCSA awarded the MFCA a contract to conduct a Truck Driver Fatigue Management Study.

Recent research has underscored the influence of time of day on truck driver alertness. The same research has shown that there are significant individual differences in alertness during night driving, even when drivers have adequate sleep. Yet the trucking industry must operate 24 hours a day in order to meet customer demands. In addition, the highways are least congested between midnight and six a.m. The unionized less-than-truckload (LTL) segment has a long history of safe operations at night. Indeed, most of its over-the-road operations occur at night. A major reason for the safety record of MFCA companies is the professionalism of the drivers they employ—more than 8,000 of the 42,000 drivers have at least one million accident-free driving miles with the same company. This truck driver workforce offers an untapped source of knowledge about techniques and lifestyle practices that are used to manage fatigue during night operations.

Specifically, the study will randomly survey Teamster drivers in MFCA companies who regularly operate on overnight runs. The survey will collect detailed information on such items as the nature of their job, what helps them cope, what are the challenges, how much and how long they sleep, their physical condition, the use of naps, and the impact of other road users on their alertness. A control group of Teamster drivers without one million accident free driving miles will also be surveyed. A sample of drivers will be studied prospectively using unobtrusive, objective wrist actigraphy watches to confirm the sleep-wake behaviors identified in the survey as being most likely to mitigate fatigue and maintain alertness during nighttime operations.

Respondents: The respondents to the planned survey will include approximately 2,000 selected motor carrier truck drivers of CMVs.

Average Burden Per Response: The estimated average burden per response is 30 minutes. This includes time needed for reading survey instructions, searching existing data sources, completing the survey instrument and returning the information by mail.

Estimated Total Annual Burden: The estimated total annual burden is 1000 hours.

Frequency: The survey will be conducted once.

Authority: The Paperwork Reduction Act of 1995; 44 U.S.C. chapter 35, as amended; and 49 CFR 1.73.

Issued on: September 23, 2003.
Warren E. Hoemann,
Deputy Administator.

[FR Doc. 03-24875 Filed 9-30-03; 8:45 am]

BILLING CODE 4910-EX-P